ENVIRONMENTAL PROTECTION AGENCY

[ER-FRL-8995-4]

Environmental Impacts Statements; Notice of Availability

Responsible Agency: Office of Federal Activities, General Information (202) 564-1399 or http://www.epa.gov/compliance/nepa/.

Weekly receipt of Environmental Impact Statements.

Filed 02/07/2011 through 02/11/2011.

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110036, Draft EIS, NPS, AZ, Grand Canyon National Park, Special Flight Rules Area (SFRA), Restore Natural Quiet, Coconino County, AZ, Comment Period Ends: 06/17/2011, Contact: Ed Benning 928-638-7695.

EIS No. 20110037, Final EIS, BPA, WA, Central Ferry-Lower Monumental 500-kilovolt Transmission Line Project, Proposing to Construct, Operate, and Maintain a 38 to 40-Mile-Long 500-kilovolt (kV) Transmission Line, Garfield, Columbia and Walla Walla Counties, WA, Review Period Ends: 03/21/2011, Contact: Tish Eaton 503-230-3469.

EIS No. 20110038, Draft Supplement, FHWA, WI, Zoo Interchange Corridor Study, New and Updated Information, Interstate I-94, I-894, and U.S. Highway 45, from 124th Street to 70th Street, Lincoln Avenue to Burleigh Street, Milwaukee County, WI, Comment Period Ends: 04/04/2011, Contact: Wes A. Shemwell 608-829-7521.

EIS No. 20110039, Final EIS, USACE, CA, West Sacramento Levee Improvements Program, To Protect Human Health and Safety and Prevent Adverse Effect on Property and its Economy, 408 Permission, Yolo and Solano Counties, CA, Review Period Ends: 03/21/2011, Contact: John Suazo 916-557-6719.

EIS No. 20110040, Final EIS, FHWA, ID, Idaho 16, I-84 to Idaho 44 Environmental Study, Proposed Action is to Increase the Transportation Capacity, Funding, Ada and Canyon Counties, ID, Review Period Ends: 03/21/2011, Contact: Ross Blanchard 208-334-9180.

EIS No. 20110041, Draft EIS, BLM, AZ, Northern Arizona Proposed Withdrawal Project, Proposed 20-Year Withdrawal of Approximately 1 Million Acres of Federal Mineral Estate, Coconino and Mohave Counties, AZ, Comment Period Ends: 04/04/2011, Contact: Chris Horyza 602-417-9446.

EIS No. 20110042, Final Supplement, USFS, MT, Bozeman Municipal Watershed Project, Additional Information, To Implement Fuel Reduction Activities, Bozeman Ranger District, Gallatin National Forest, City of Bozeman Municipal Watershed, Gallatin County, MT, Wait Period Ends: 03/21/2011, Contact: Teri Seth 406-522-2539.

EIS No. 20110043, Draft EIS, USFS, CA, Fish Camp Project, Proposes to Create a Network of Landscape Area Treatments and Defensible Fuel, Sierra National Forest, Bass Lake Ranger District, Madera and Mariposa Counties, CA, Comment Period Ends: 04/04/2011, Contact: Mark Lemon 559-877-2218 Ext. 3110.

Amended Notices

EIS No. 20100474, Draft EIS, BLM, CA, East County Substation/Tule Wind/Energia Sierra Juarez Gen-Tie Projects, Construction and Operation, Right-of-Way Grants, San Diego County, CA, Comment Period Ends: 03/04/2011, Contact: Greg Thomsen 951-697-5237. Review to FR Notice 12/23/2010: Extending Comment from 02/07/2011 to 03/04/2011.

Dated: February 15, 2011.
Robert W. Hargrove,
Director, NEPA Compliance Division, Office of Federal Activities.

[FR Doc. 2011-3720 Filed 2-17-11; 8:45 am]

BILLING CODE 6560-50-P